DEPARTMENT OF JUSTICE

Notice of Proposed Consent Decree Pursuant to the Comprehensive Environmental Response, Compensation and Liability Act

Notice is hereby given that on October 4, 2011, a proposed consent decree in United States et al. v. Airgas Carbonic, Inc., et. al., Civil Action No. 1:11-cv-163 was lodged with the United States District Court for the Southern District of Georgia.

In this action, filed pursuant to the Comprehensive Environmental Response, Compensation and Liability Act, the United States and the State of Georgia sought (a) The reimbursement of the Federal and state governments' incurred and to be incurred response costs relating to the Alternate Energy Resources, Inc. Site (AER Site), which is located in Augusta, Richmond County, Georgia; and (b) the performance of the remedial design and the remedial action (RD/RA) for the AER Site consistent with the National Contingency Plan, 40 CFR part 300 (as amended).

The parties in this case have reached a proposed settlement. Pursuant to the proposed Consent Decree, seventy-three parties (the Settling Performing Parties), including sixty-eight (68) private parties, four Federal agencies and one state agency, will perform the RD/RA work for the Site at an approximate cost of $7.3 million. The Federal and the state agencies will participate in the clean-up by contributing financially to the private parties who will be performing the RD/RA work. Certain of these Settling Performing Parties have already spent approximately $1.1 million in Site-related investigative and response activities.

Additionally, seven hundred and ninety-seven (797) other parties (De Minimis Parties), including private parties, and Federal and state agencies, will also contribute financially to the Settling Performing Parties' performance of the RD/RA work and to the reimbursement of the Federal and state costs incurred and to be incurred.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the Consent Decree for civil action United States et al. v. Airgas Carbonic, Inc. et al., DOJ Ref. No. 90-11-3-10081.

The proposed Consent Decree may be examined at the United States Environmental Protection Agency, Region 4, 61 Forsyth Street, SW., Atlanta, GA 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check (25 cents per page reproduction cost) in the amount of $29.50 (Consent Decree with exhibits is $122.25; Consent Decree with exhibits and signature pages is $343.75) payable to the U.S. Treasury or, if by e-mail or fax, forward a check in that amount to the Consent Decree Library at the stated address.

Henry S. Friedman,
Assistant Section Chief, Environmental Enforcement Section, Environment and Natural Resources Division.

[FR Doc. 2011-26831 Filed 10-17-11; 8:45 am]

BILLING CODE 4410-15-P